DEPARTMENT OF THE INTERIOR

National Park Service

Temporary Contract for Belle Haven Marina, Inc.

AGENCY: National Park Service (NPS).

ACTION: Public notice.

SUMMARY: Pursuant to 36 CFR 51.24, public notice is hereby given that the Director intends to award a temporary concession contract to Belle Haven Marina, Inc. to avoid the interruption of visitor services.

EFFECTIVE DATE: January 1, 2003.

SUPPLEMENTARY INFORMATION: The contract between George Washington Memorial Parkway (GWMP) and Belle Haven Marina, Inc. expires December 31, 2002. The NPS has determined that a temporary contract is necessary in order to avoid interruption of visitor services and that all reasonable alternatives to the award of a temporary contract have been considered and found infeasible. The term of the temporary contract will be for a period of two years. This temporary contract will provide the time for GWMP to obtain technical assistance on the marina market, the business opportunity, and scientific data collection on the environmental impacts of proposed alternatives. GWMP is planning to have the Environmental Assessment (EA) completed by Spring 2003. The EA will allow GWMP to make a determination of necessary and appropriate services with respect to the marina so a prospectus may be issued leading to the competitive selection of a concessioner for a new long-term concession contract.

FOR FURTHER INFORMATION CONTACT: Jacqueline Lavelle, Concession Specialist, George Washington Memorial Parkway at (703) 289-2536.

Audrey F. Calhoun,
Superintendent, George Washington Memorial Parkway.

[FR Doc. 03-588 Filed 1-10-03; 8:45 am]

BILLING CODE 4310-70-P